DEPARTMENT OF HOMELAND SECURITY

Coast Guard

33 CFR Part 165

[Docket No. USCG-2019-0546]

Safety Zones; Recurring Safety Zones in Captain of the Port Sault Sainte Marie Zone for Events Beginning in July 2019

AGENCY: Coast Guard, DHS.

ACTION: Notice of enforcement of regulation.

SUMMARY: The Coast Guard will enforce established safety zones for maritime events starting in July, 2019 to provide for the safety of life on navigable waterways. Our regulation for safety zones within the Captain of the Port Sault Sainte Marie Zone identifies the regulated area for these safety zones. During the enforcement periods, vessels must stay out of the established safety zone and may only enter with permission from the designated representative of the Captain of the Port Sault Sainte Marie.

DATES: The regulations in 33 CFR 165.918 will be enforced for the safety zones identified in Table 1 of the SUPPLEMENTARY INFORMATION section below for the dates and times specified.

FOR FURTHER INFORMATION CONTACT: If you have questions about this publication, call or email LT Sean Murphy, Waterways Management, Coast Guard Sector Sault Sainte Marie, U.S. Coast Guard; telephone 906-635-3223, email Sean.V.Murphy@uscg.mil.

SUPPLEMENTARY INFORMATION: The Coast Guard will enforce the safety zones in 33 CFR 165.918 as per the time, dates, and locations in Table 1.

TABLE 1
[Datum NAD 1983]
Event | Location | Event Date
(1) Festivals of Fireworks Celebration Fireworks; St. Ignace, MI | All U.S. navigable waters of East Moran Bay within an approximate 350-foot radius from the fireworks launch site at the end of the Starline Mill Slip, centered in position: 45°52′24.62″ N, 084°43′18.13″ W | July 4 and Saturday nights June 29 to August 31, 2019; 30 minutes before sunset and 30 minutes after the end of the fireworks display.
(2) Canada Day Celebration Fireworks; Sault Sainte Marie, MI | All U.S. navigable waters of the St. Marys River within an approximate 600-foot radius from the fireworks launch site, centered approximately 160 yards north of the U.S. Army Corps of Engineers Soo Locks North East Pier, at position 46°30′20.40″ N, 084°20′17.64″ W | July 1, 2019 from 10 p.m. to 11 p.m.
(3) Bay Harbor Yacht Club Fourth of July Celebration Fireworks; Petoskey, MI | All U.S. navigable waters of Lake Michigan and Bay Harbor Lake within the arc of a circle with an approximate 840-foot radius from the fireworks launch site located on a barge in position 45°21′50″ N, 085°01′37″ W | July 3, 2019 from 10 p.m. to 11:30 p.m.
(4) Marquette Fourth of July Celebration Fireworks; Marquette, MI | All U.S. navigable waters of Marquette Harbor within an approximate 840-foot radius of the fireworks launch site, centered in position 46°32′23.0″ N, 087°23′13.1″ W | July 4, 2019 from 9 p.m. to 11 p.m. Rain date July 5, 2019 from 9 p.m. to 11 p.m.
(5) Munising Fourth of July Celebration Fireworks; Munising, MI | All U.S. navigable waters of South Bay within an approximate 800-foot radius from the fireworks launch site at the end of the Munising City Dock, centered in position: 46°24′50.08″ N, 086°39′08.52″ W | July 4, 2019 from 10:30 p.m. to 11:30 p.m. Rain date July 5, 2019 from 10:30 p.m. to 11:30 p.m.
(6) Sault Sainte Marie Fourth of July Celebration Fireworks; Sault Sainte Marie, MI | All U.S. navigable waters of the St. Marys River within an approximate 700-foot radius around the eastern portion of the U.S. Army Corps of Engineers Soo Locks North East Pier, centered in position: 46°30′19.66″ N, 084°20′31.61″ W | July 4, 2019 from 9 p.m. to 11 p.m. Rain date July 5, 2019 from 9 p.m. to 11 p.m.
(7) Mackinac Island Fourth of July Celebration Fireworks; Mackinac Island, MI | All U.S. navigable waters of Lake Huron within an approximate 420-foot radius of the fireworks launch site, centered approximately 1000 yards west of Round Island Passage Light, at position 45°50′34.92″ N, 084°37′38.16″ W | July 4, 2019 from 9 p.m. to 11:30 p.m. Rain date July 5, 2019 from 9 p.m. to 11:30 p.m.
(8) Harbor Springs Fourth of July Celebration Fireworks; Harbor Springs, MI | All U.S. navigable waters of Lake Michigan and Harbor Springs Harbor within the arc of a circle with an approximate 700-foot radius from the fireworks launch site located on a barge in position 45°25′30″ N, 084°59′06″ W | July 4, 2019 from 10 p.m. to 11 p.m. Rain date July 5, 2019 from 10 p.m. to 11 p.m.
(9) Petoskey Fourth of July Celebration Fireworks; Petoskey, MI | All U.S. navigable waters of Lake Michigan and Petoskey Harbor, in the vicinity of Bay Front Park, within the arc of a circle with an approximate 720-foot radius from the fireworks launch site located in position 45°22′40″ N, 084°57′30″ W | July 4, 2019 from 9:30 p.m. to 11:30 p.m. Rain date July 5, 2019 from 9:30 p.m. to 11:30 p.m.
(10) Boyne City Fourth of July Celebration Fireworks; Boyne City, MI | All U.S. navigable waters of Lake Charlevoix, in the vicinity of Veterans Park, within the arc of a circle with an approximate 1400-foot radius from the fireworks launch site located in position 45°13′30″ N, 085°01′40″ W | July 4, 2019 from 10 p.m. to 11:30 p.m. Rain date July 5, 2019 from 10 p.m. to 11:30 p.m.
(11) Alpena Fourth of July Celebration Fireworks; Alpena, MI | All U.S. navigable waters of Lake Huron within an approximate 1000-foot radius of the fireworks launch site located near the end of Mason Street, South of State Avenue, at position 45°02′42″ N, 083°26′48″ W | July 4, 2019 from 9 p.m. to 11:30 p.m. Rain date July 5, 2019 from 9 p.m. to 11:30 p.m.
(12) Traverse City Fourth of July Celebration Fireworks; Traverse City, MI | All U.S. navigable waters of the West Arm of Grand Traverse Bay within the arc of a circle with an approximate 840-foot radius from the fireworks launch site located on a barge in position 44°46′12″ N, 085°37′06″ W | July 4, 2019 from 9 p.m. to 11 p.m. Rain date July 5, 2019 from 9 p.m. to 11 p.m.
(13) National Cherry Festival Finale Fireworks; Traverse City, MI | All U.S. navigable waters of the West Arm of Grand Traverse Bay within the arc of a circle with an approximate 840-foot radius from the fireworks launch site located on a barge in position 44°46′12″ N, 085°37′06″ W | July 6, 2019 from 9:30 p.m. to 11 p.m.

This action is being taken to provide for the safety of life on navigable waterways during the fireworks displays. The regulations for safety zones within the Captain of the Port Sault Sainte Marie Zone, § 165.918, apply for these fireworks displays.

This notice of enforcement is issued under authority of 33 CFR 165.918 and 5 U.S.C. 552(a). In addition to this notice of enforcement in the Federal Register, the Coast Guard will provide the maritime community with advance notification of this enforcement period via Broadcast Notice to Mariners or Local Notice to Mariners. If the Captain of the Port Sault Sainte Marie determines that the safety zone need not be enforced for the full duration stated in this notice of enforcement he or she may use a Broadcast Notice to Mariners to grant general permission to enter the respective safety zone.

Dated: June 26, 2019.
P.S. Nelson,
Captain, U.S. Coast Guard, Captain of the Port Sault Sainte Marie.

[FR Doc. 2019-13998 Filed 6-28-19; 8:45 am]

BILLING CODE 9110-04-P